FEDERAL RETIREMENT THRIFT INVESTMENT BOARD

Sunshine Act; Notice of Meeting

TIME AND DATE: 8:30 a.m. (Eastern Time) January 25, 2016.

PLACE: 10th Floor Board Meeting Room, 77 K Street NE., Washington, DC 20002.

STATUS: Parts will be open to the public and parts closed to the public.

MATTERS TO BE CONSIDERED:

Parts Open to the Public

1. Approval of the Minutes of the December 14, 2015 Board Member Meeting

2. Monthly Reports

(a) Participant Activity Report

(b) Legislative Report

3. Quarterly Reports

(a) Investment Policy Report

(b) Vendor Financials

(c) Budget Review

(d) Project Activity

(e) Audit Status

4. Audit Report

5. Annual Expense Ratio Review

6. 2016 Calendar Review

Parts Closed to the Public

7. Semi-Annual OGC Litigation Review

8. Security

9. Personnel

CONTACT PERSON FOR MORE INFORMATION: Kimberly Weaver, Director, Office of External Affairs, (202) 942-1640.

Dated: January 14, 2016.
Megan Grumbine,
Deputy General Counsel, Federal Retirement Thrift Investment Board.

[FR Doc. 2016-01105 Filed 1-15-16; 11:15 am]

BILLING CODE 6760-01-P